ENVIRONMENTAL PROTECTION AGENCY

40 CFR Part 52

[EPA-R05-OAR-2015-0802; FRL-9967-40-Region 5]

Air Plan Approval; Ohio; Volatile Organic Compound Control Rules

AGENCY: Environmental Protection Agency (EPA).

ACTION: Final rule.

SUMMARY: The Environmental Protection Agency (EPA) is approving under the Clean Air Act (CAA), a November 18, 2015, State Implementation Plan (SIP) submittal from the Ohio Environmental Protection Agency consisting of adjustments and additions to volatile organic compound (VOC) rules in the Ohio Administrative Code (OAC). The changes to these rules are based on an Ohio-initiated five-year periodic review of its VOC rules and a new rule to update the VOC reasonably available control technology (RACT) requirements for the miscellaneous metal and plastic parts coatings source category for the Cleveland-Akron-Lorain area (“Cleveland area”) consisting of Ashtabula, Cuyahoga, Geauga, Lake, Lorain, Medina, Portage, and Summit counties. Additionally, EPA is approving into the Ohio SIP an oxides of nitrogen (NOX) emission limit for Arcelor-Mittal Cleveland that Ohio is using as an offset in its anti-backsliding demonstration for architectural aluminum coatings.

DATES: This final rule is effective on October 10, 2017.

ADDRESSES: EPA has established a docket for this action under Docket ID No. EPA-R05-OAR-2015-0802. All documents in the docket are listed on the https://www.regulations.gov Web site. Although listed in the index, some information is not publicly available, i.e., Confidential Business Information (CBI) or other information whose disclosure is restricted by statute. Certain other material, such as copyrighted material, is not placed on the Internet and will be publicly available only in hard copy form. Publicly available docket materials are available either through https://www.regulations.gov or at the Environmental Protection Agency, Region 5, Air and Radiation Division, 77 West Jackson Boulevard, Chicago, Illinois 60604. This facility is open from 8:30 a.m. to 4:30 p.m., Monday through Friday, excluding Federal holidays. We recommend that you telephone Jenny Liljegren, Physical Scientist, at (312) 886-6832 before visiting the Region 5 office.

FOR FURTHER INFORMATION CONTACT: Jenny Liljegren, Physical Scientist, Attainment Planning and Maintenance Section, Air Programs Branch (AR-18J), Environmental Protection Agency, Region 5, 77 West Jackson Boulevard, Chicago, Illinois 60604, (312) 886-6832, Liljegren.Jennifer@epa.gov.

SUPPLEMENTARY INFORMATION: Throughout this document whenever “we,” “us,” or “our” is used, we mean EPA. This supplementary information section is arranged as follows:

I. What is the purpose of this action?

II. What is EPA's analysis of Ohio's submitted VOC rules?

III. What action is EPA taking?

IV. Incorporation by Reference

V. Statutory and Executive Order Reviews

I. What is the purpose of this action?

EPA is approving a November 18, 2015, Ohio SIP submittal consisting of adjustments and additions to OAC Chapter 3745-21. Specifically, this includes amended OAC rules 3745-21-01, 3745-21-03, 3745-21-04, 3745-21-08, 3745-21-09, 3745-21-10, 3745-21-12, 3745-21-13, 3745-21-14, 3745-21-15, 3745-21-16, 3745-21-17, 3745-21-18, 3745-21-19, 3745-21-20, 3745-21-21, 3745-21-22, 3745-21-23, 3745-21-25, 3745-21-27, 3745-21-28, 3745-21-29; rescission of existing OAC rule 3745-21-24, and adoption of new OAC rules 3745-21-24 and 3745-21-26.

Except for OAC rule 3745-21-26, the changes to the Chapter 3745-21 rules are based on an Ohio-initiated five-year periodic review of its VOC rules. When Ohio reviews a rule and amends greater than fifty percent of that rule, Ohio issues the entire rule as a new replacement rule. This is the case with OAC 3745-21-24. OAC rule 3745-21-26 is an entirely new rule, the purpose of which is to update the VOC RACT requirements for the Cleveland area for the miscellaneous metal and plastic parts coatings source category. Additionally, EPA is approving into the Ohio SIP the NOX emission limit on unit P046 at the Arcelor-Mittal Cleveland facility, which is contained in OAC 3745-110-03(N). Ohio is using this emission limit as an offset in its CAA section 110(l) anti-backsliding demonstration for architectural coatings, which was discussed in detail in the May 11, 2017, proposed rulemaking (82 FR 21960). EPA solicited public comment on this proposal and did not receive any comments during the comment period. Finally, EPA is approving OAC 3745-110-05(A) into the Ohio SIP, which provides that compliance with the NOX emission limit on unit P046 at Arcelor-Mittal Cleveland shall be demonstrated by performing emission tests in accordance with EPA Method 7, 7a, 7c, 7d, or 7e, and any additional approved EPA methods as applicable.

II. What is EPA's analysis of Ohio's submitted VOC rules?

Many of Ohio's amendments to the rules in Chapter 3745-21 are not significant. These amendments include: Updates to items incorporated by reference; minor typographical changes to conform to new state preferences on style and formatting; updates to correct typographical and format errors; updates to reflect source name and/or address changes; the removal of references to sources which have been permanently shut down; updates to replace deadlines associated with previous rule effective dates with actual dates (e.g. “sixty days from the effective date of this rule” replaced with an actual date); and language updates to provide clarification and to avoid confusion. EPA reviewed these and other non-significant and/or non-substantive amendments and is approving them since they do not constitute significant and/or substantive changes to Ohio's rules.

More significant amendments, those amendments requiring more explanation, and the addition of OAC rule 3745-21-26 were discussed in detail in the May 11, 2017, proposed rulemaking (82 FR 21960). These amendments pertain to catalytic incinerator requirements, references to operating permits, VOC recordkeeping requirements, solvent cleaning operations requirements, the addition of OAC rule 3745-21-26 surface coating of miscellaneous metal and plastic parts, and updates to the following rules: OAC rule 3745-21-24 flat wood paneling coatings and OAC rule 3745-21-28 miscellaneous industrial adhesives and sealants. EPA reviewed these amendments and is approving them for the reasons explained in detail in the May 11, 2017, proposed rulemaking (82 FR 21960) which can be found in the docket to this final rule.

III. What action is EPA taking?

EPA is approving into the Ohio SIP adjustments and additions to VOC RACT rules in OAC Chapter 3745-21. Additionally, EPA is incorporating into the Ohio SIP the NOX emission limit on unit P046 at the Arcelor-Mittal Cleveland facility, which is contained in OAC 3745-110-03(N); Ohio is using this emission limit as an offset in its CAA section 110(l) anti-backsliding demonstration for the OAC rule 3745-21-26 VOC content limit for architectural coatings. Finally, EPA is approving OAC 3745-110-05(A) into the Ohio SIP, which provides that compliance with the NOX emission limit on unit P046 at Arcelor-Mittal Cleveland shall be demonstrated by performing emission tests in accordance with EPA Method 7, 7a, 7c, 7d, or 7e, and any additional approved EPA methods as applicable.

IV. Incorporation by Reference

In this rule, EPA is finalizing regulatory text that includes incorporation by reference. In accordance with requirements of 1 CFR 51.5, EPA is finalizing the incorporation by reference of the Ohio Regulations described in the amendments to 40 CFR part 52 set forth below. EPA has made, and will continue to make, these documents generally available through https://www.regulations.gov, and/or at the EPA Region 5 Office (please contact the person identified in the FOR FURTHER INFORMATION CONTACT section of this preamble for more information). Therefore, these materials have been approved by EPA for inclusion in the SIP, have been incorporated by reference by EPA into that plan, are fully federally enforceable under sections 110 and 113 of the CAA as of the effective date of the final rulemaking of EPA's approval, and will be incorporated by reference by the Director of the Federal Register in the next update to the SIP compilation.¹

¹ 62 FR 27968 (May 22, 1997).

V. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by November 7, 2017. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Reporting and recordkeeping requirements, Volatile organic compounds.

Dated: August 25, 2017.
Robert A. Kaplan,
Acting Regional Administrator, Region 5.

40 CFR part 52 is amended as follows:

PART 52—APPROVAL AND PROMULGATION OF IMPLEMENTATION PLANS

1. The authority citation for part 52 continues to read as follows:

Authority: 42 U.S.C. 7401 et seq.

2. In § 52.1870, the table in paragraph (c) is amended by:

a. Revising all the entries under the heading entitled “Chapter 3745-21 Carbon Monoxide, Ozone, Hydrocarbon Air Quality Standards, and Related Emission Requirements”;

b. Adding a new heading in numerical order entitled “Chapter 3745-110 Nitrogen Oxides—Reasonably Available Control Technology” including entries for “3745-110-03” and “3745-110-05”.

The revisions and additions read as follows:

§ 52.1870 Identification of plan.

* * * * *

(c) * * *

EPA-Approved Ohio Regulations
Ohio citation | Title/subject | Ohio effective date | EPA approval date | Notes
* * * * * * *
Chapter 3745—21 Carbon Monoxide, Ozone, Hydrocarbon Air Quality Standards, and Related Emission Requirements
3745-21-01 | Definitions and incorporation by reference | 10/15/2015 | 9/8/2017, [insert Federal Register citation]
3745-21-02 | Ambient air quality standards and guidelines | 8/25/2008 | 7/28/2009, 74 FR 37171
3745-21-03 | Methods of ambient air quality measurement | 10/15/2015 | 9/8/2017, [insert Federal Register citation]
3745-21-04 | Compliance time schedules | 10/15/2015 | 9/8/2017, [insert Federal Register citation]
3745-21-06 | Classification of regions | 8/25/2008 | 7/28/2009, 74 FR 37171
3745-21-07 | Control of emissions of organic materials from stationary sources (i.e., emissions that are not regulated by rule 3745-21-09, 3745-21-12, 3745-21-13, 3745-21-14, 3745-21-15, 3745-21-16, or 3745-21-18 of the administrative code) | 2/18/2008 | 8/19/2011, 76 FR 51901
3745-21-08 | Control of carbon monoxide emissions from stationary sources | 10/15/2015 | 9/8/2017, [insert Federal Register citation]
3745-21-09 | Control of emissions of volatile organic compounds from stationary sources and perchloroethylene from dry cleaning facilities | 10/15/2015 | 9/8/2017, [insert Federal Register citation]
3745-21-10 | Compliance test methods and procedures | 10/15/2015 | 9/8/2017, [insert Federal Register citation]
3745-21-12 | Control of volatile organic compound emissions from commercial bakery oven facilities | 10/15/2015 | 9/8/2017, [insert Federal Register citation]
3745-21-13 | Control of volatile organic compound emissions from reactors and distillation units employed in SOCMI chemical production | 10/15/2015 | 9/8/2017, [insert Federal Register citation]
3745-21-14 | Control of volatile organic compound emissions from process vents in batch operations | 10/15/2015 | 9/8/2017, [insert Federal Register citation]
3745-21-15 | Control of volatile organic compound emissions from wood furniture manufacturing operations | 10/15/2015 | 9/8/2017, [insert Federal Register citation]
3745-21-16 | Control of volatile organic compound emissions from industrial wastewater | 10/15/2015 | 9/8/2017, [insert Federal Register citation]
3745-21-17 | Portable fuel containers | 10/15/2015 | 9/8/2017, [insert Federal Register citation]
3745-21-18 | Commercial motor vehicle and mobile equipment refinishing operations | 10/15/2015 | 9/8/2017, [insert Federal Register citation]
3745-21-19 | Control of volatile organic compound emissions from aerospace manufacturing and rework facilities | 10/15/2015 | 9/8/2017, [insert Federal Register citation]
3745-21-20 | Control of volatile organic emissions from shipbuilding and ship repair operations (marine coatings) | 10/15/2015 | 9/8/2017, [insert Federal Register citation]
3745-21-21 | Storage of volatile organic liquids in fixed roof tanks and external floating roof tanks | 10/15/2015 | 9/8/2017, [insert Federal Register citation]
3745-21-22 | Control of volatile organic compound emissions from offset lithographic printing and letterpress printing facilities | 10/15/2015 | 9/8/2017, [insert Federal Register citation]
3745-21-23 | Control of volatile organic compound emissions from industrial solvent cleaning operations | 10/15/2015 | 9/8/2017, [insert Federal Register citation]
3745-21-24 | Flat wood paneling coatings | 10/15/2015 | 9/8/2017, [insert Federal Register citation]
3745-21-25 | Control of VOC emissions from reinforced plastic composites production operations | 10/15/2015 | 9/8/2017, [insert Federal Register citation]
3745-21-26 | Surface coating of miscellaneous metal and plastic parts | 10/15/2015 | 9/8/2017, [insert Federal Register citation]
3745-21-27 | Boat manufacturing | 10/15/2015 | 9/8/2017, [insert Federal Register citation]
3745-21-28 | Miscellaneous industrial adhesives and sealants | 10/15/2015 | 9/8/2017, [insert Federal Register citation]
3745-21-29 | Control of volatile organic compound emissions from automobile and light-duty truck assembly coating operations, heavier vehicle assembly coating operations, and cleaning operations associated with these coating operations | 10/15/2015 | 9/8/2017, [insert Federal Register citation]
* * * * * * *
Chapter 3745-110—Nitrogen Oxides—Reasonably Available Control Technology
3745-110-03 | RACT requirements and/or limitations for emissions of NOX from stationary sources | 07/18/2013 | 9/8/2017, [insert Federal Register citation] | Only the NOX emission limitation on unit P046 contained in 3745-110-03(N).
3745-110-05 | Compliance methods | 07/18/2013 | 9/8/2017, [insert Federal Register citation] | Only (A). For purposes of demonstrating compliance with the NOX emission limitation on unit P046 contained in 3745-110-03(N).
* * * * * * *

* * * * *

[FR Doc. 2017-18864 Filed 9-7-17; 8:45 am]

BILLING CODE 6560-50-P